DEPARTMENT OF TRANSPORTATION

Federal Railroad Administration

[Docket No. FRA-2017-0002-N-8]

Proposed Agency Information Collection Activities; Comment Request

AGENCY: Federal Railroad Administration (FRA), U.S. Department of Transportation (DOT).

ACTION: Notice of information collection; request for comment.

SUMMARY: Under the Paperwork Reduction Act of 1995 (PRA) and its implementing regulations, FRA seeks approval of the new Information Collection Request (ICR) abstracted below. Before submitting this ICR to the Office of Management and Budget (OMB) for approval, FRA is soliciting public comment on specific aspects of the activities identified below.

DATES: Interested persons are invited to submit comments on or before November 16, 2018.

ADDRESSES: Submit written comments on the ICR activities by mail to either: Mr. Robert Brogan, Information Collection Clearance Officer, Office of Railroad Safety, Regulatory Analysis Division, RRS-21, Federal Railroad Administration, 1200 New Jersey Avenue SE, Room W33-497, Washington, DC 20590; or Ms. Kim Toone, Information Collection Clearance Officer, Office of Information Technology, RAD-20, Federal Railroad Administration, 1200 New Jersey Avenue SE, Room W34-212, Washington, DC 20590. Commenters requesting FRA to acknowledge receipt of their respective comments must include a self-addressed stamped postcard stating, “Comments on OMB Control Number 2130—NEW,” and should also include the title of the ICR. Alternatively, comments may be faxed to (202) 493-6216 or (202) 493-6497, or emailed to Mr. Brogan at Robert.Brogan@dot.gov, or Ms. Toone at Kim.Toone@dot.gov. Please refer to the assigned OMB control number and title in any correspondence submitted. FRA will summarize comments received in response to this notice in a subsequent notice and include them in its information collection submission to OMB for approval.

FOR FURTHER INFORMATION CONTACT: Mr. Robert Brogan, Information Collection Clearance Officer, Office of Railroad Safety, Regulatory Analysis Division, RRS-21, Federal Railroad Administration, 1200 New Jersey Avenue SE, Room W33-497, Washington, DC 20590 (telephone: (202) 493-6292) or Ms. Kim Toone, Information Collection Clearance Officer, Office of Information Technology, RAD-20, Federal Railroad Administration, 1200 New Jersey Avenue SE, Room W34-212, Washington, DC 20590 (telephone: (202) 493-6132).

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8 through 1320.12. Specifically, FRA invites interested parties to comment on the following ICR regarding: (1) Whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1). FRA believes that soliciting public comment may reduce the administrative and paperwork burdens associated with the collection of information that Federal regulations mandate. See 44 U.S.C. 3501.

The summary below describes the ICR that FRA will submit for OMB clearance as the PRA requires:

Title: Driver Awareness of Emergency Notification System (ENS) Signage at Highway-Rail Grade Crossings.

OMB Control Number: 2130—NEW.

Abstract: FRA is interested in understanding more about drivers' awareness and understanding of the ENS signs posted at highway-rail grade crossings. ENS signs are placed at crossings so that if a driver encounters a malfunctioning crossing or an unsafe condition at a crossing the driver can call the number on the sign and use the posted crossing identification number to report the issue. If a driver were to become stuck on the tracks, the driver can also call the phone number displayed on the ENS sign to notify the railroad. This would help the railroad slow or stop any oncoming train and dispatch individuals who could help safely remove the stuck vehicle. Drivers may also choose to call the ENS number if they believe the crossing signage is damaged or obstructed. The study will help shed light on how drivers react when crossing infrastructure appears to be malfunctioning or when they become stuck on or near the crossing. This study will pay particular attention to whether drivers look for or attempt to make use of the information on the ENS sign.

The proposed study will use the FRA Driving Simulator, housed at the Volpe National Transportation System Center, to study driver behavior, including drivers' potential interaction with the ENS signage, at a variety of gate types and ENS sign orientations.

Participants will be asked to drive through a variety of scenarios to understand their behaviors under certain circumstances. The data collected in this portion will include:

a. Information on the vehicle driver's behavior to determine what a driver does and where the driver looks when at a crossing equipped with a functioning warning system;

b. information on the vehicle driver's behavior to determine how a driver responds to a malfunctioning crossing gate (e.g., violated safety signals, turned around and found another route);

c. information on a driver's eye fixation locations to determine whether the driver notices an ENS sign or if the driver's eye fixates long enough to read it, when crossing warning systems are functioning properly or malfunctioning;

d. information on a driver's response to an ENS sign to determine whether the driver would use the information on the sign to address the issue; and

e. information on a driver's response to an ENS sign to determine whether the driver would use the information on the sign if the driver becomes stuck on the tracks.

This study will evaluate each participant's awareness of the ENS sign and the purpose it serves as well as the participant's response to various functioning and malfunctioning highway-rail grade crossing warning systems.

Type of Request: Approval of a new collection of information.

Affected Public: Individuals.

Form(s): N/A.

Respondent Universe: 100 individual volunteer drivers.

Frequency of Submission: One-time.

Reporting Burden
Form | Respondent universe | Total annual responses | Average time per response (hours) | Total annual burden hours
Oral Interviews | 100 Volunteer Drivers | 100 | 1 | 100

Total Estimated Annual Responses: 100.

Total Estimated Annual Burden: 100 hours.

Under 44 U.S.C. 3507(a) and 5 CFR 1320.5(b) and 1320.8(b)(3)(vi), FRA informs all interested parties that it may not conduct or sponsor, and a respondent is not required to respond to, a collection of information unless it displays a currently valid OMB control number.

Authority: 44 U.S.C. 3501-3520.

Juan D. Reyes III,
Chief Counsel.

[FR Doc. 2018-20052 Filed 9-14-18; 8:45 am]

BILLING CODE 4910-06-P